DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of February 8, 2016 through February 26, 2016.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected secondary workers of a firm and a certification issued regarding eligibility to apply for worker adjustment assistance, each of the group eligibility requirements of Section 222(b) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
85,190 | DNP Electronics America LLC (Deal), Aerotek Staffing Agency | Chula Vista, CA | March 31, 2013.
85,348 | Center Partners, Inc., Qualfon, Kantar | Idaho Falls, ID | May 29, 2013.
85,989 | Milliken and Company, Judson Plant, Select One Staffing of SC, LLC Mau Workforce, etc | Greenville, SC | May 5, 2014.
86,027 | Pittsburgh Corning Corporation, Glass Block Division, PPG Industries, Inc., and Corning, Inc | Port Allegany, PA | May 31, 2015.
86,139 | Wheatland Tube Company, John Maneely Company | Sharon, PA | November 6, 2014.
90,106 | Grede Wisconsin Subsidiaries, LLC, Grede Holdings, LLC, OfficeTeam | Berlin, WI | January 1, 2014.
90,135 | McCarthy OTR Retreading, Inc | Somerset, PA | January 1, 2014.
90,184 | Century Aluminum of Kentucky, GP | Hawesville, KY | January 1, 2014.
90,184A | Century Aluminum of West Virginia, Inc | Ravenswood, WV | January 1, 2014.
90,191 | Sun Mountain Sports, Inc., Golf Assembly Department, Labor Ready | Missoula, MT | January 1, 2014.
91,013 | Freeport-McMoRan Tyrone Mining, LLC, Freeport-McMoRan, Inc., James Hamilton Construction, Allstaff Services | Tyrone, NM | October 1, 2014.
91,014 | Alfa Laval Inc., Alfa Laval AB, ALFA Lavel U.S. Holding Inc., American Staffcorp (ASC) | Broken Arrow, OK | October 1, 2014.
91,132 | Century Aluminum of South Carolina, Inc | Goose Creek, SC | November 11, 2014.
91,159 | Century Aluminum Sebree, LLC | Robards, KY | November 18, 2014.
91,232 | Alcoa Inc., Massena Operations, Global Primary Products Division, Alcoa, Inc., Icon and Headway | Massena, NY | December 15, 2014.
91,367 | Freeport-McMoRan Sierrita, Inc., Freeport-McMoRan, Inc | Green Valley, AZ | January 20, 2015.

The following certifications have been issued. The requirements of Section 222(a)(2)(B) (shift in production or services) of the Trade Act have been met.

TA-W No. | Subject firm | Location | Impact date
85,025 | Philips Electronics North America Corporation, Finance perations (FinOps) North America Div., etc | Bothell, WA | January 22, 2013.
85,025A | Philips Electronics North America Corporation, Finance Operations (FinOps) North America Div., etc | Andover, MA | January 22, 2013.
85,025B | Philips Electronics North America Corporation, Finance Operations (FinOps) North America Div., etc | Pittsburgh, PA | January 22, 2013.
85,038 | Tate and Kirlin Associates, Inc | Philadelphia, PA | January 28, 2013.
85,167 | Dell Marketing L.P. and Dell USA LP, Denali, Inc., Services Infrastructure Delivery and Cloud, etc | Plano, TX | March 20, 2013.
85,206 | OVUS Technologies LLC, Texas Instruments | Dallas, TX | April 2, 2013.
85,239 | Robert Bosch Tool Corporation, Inc., Power Tool Division, Robert Bosch Gmgh, Advanced Resources, etc | Mount Prospect, IL | April 15, 2013.
85,250 | Dell Marketing L.P. and Dell USA LP, Denali, Inc., Dell Finance Services, AGS Staffing | Round Rock, TX | April 16, 2013.
85,337 | Dell Marketing L.P. And Dell USA LP, Denali, Inc., Transaction Applications Group, Inc., CHPW Account Claims | Plano, TX | May 27, 2013.
85,530 | Shure Incorporated, Warehouse Facility | El Paso, TX | September 10, 2013.
85,793 | Pacific Data Images, Inc. (PDI), Dream Works Animation SKG, Inc., Premier Staffing | Redwood City, CA | January 27, 2014.
85,831 | CareFusion Resources LLC, Accounts Payable/Finance Operations, Carefusion Corporation, etc | Albuquerque, NM | February 13, 2014.
85,835 | S4Carlisle Publishing Services | Dubuque, IA | April 17, 2015.
85,880 | Stewart Title Guaranty Company, Information Technology Department | Houston, TX | March 13, 2014.
85,994 | Superior Industries International, Inc | Van Nuys, CA | May 6, 2014.
86,033 | Dex Media, Bethlehem Pennsylvania Division | Bethlehem, PA | May 22, 2014.
86,064 | Texas Instruments Incorporated, Test Technology and Product Engineering Group, Houston Test Floor, Volt | Stafford, TX | June 2, 2014.
86,107 | Dex Media, Customer Care | Greenwood Village, CO | June 17, 2014.
86,130 | Vera Bradley Designs, Inc., Vera Bradley Sales, LLC, Manpower | New Haven, IN | June 24, 2014.
90,026 | Abbott Medical Optics, AMO/Headquarters, Abbott, Tapein | Santa Ana, CA | January 1, 2014.
90,113 | Precision-Paragon, Hubbell Lighting, Inc., Staffmark and Thor Staffing Services | Yorba Linda, CA | January 1, 2014.
90,129 | Newark Corporation, Echannel Department | Richfield, OH | January 1, 2014.
90,150 | Barnes Aerospace, Windsor Division, Barnes Group Inc., Monroe Group, Kforce Finance, etc | Windsor, CT | January 1, 2014.
90,196 | Quintiles, Inc., Clinical Development and Information Technology Departments, Quintiles, etc | Overland Park, KS | January 1, 2014.
91,070 | LPL Financial LLC, Business Technology Services | San Diego, CA | October 22, 2014.
91,070A | LPL Financial LLC, Business Technology Services | Charlotte, NC | October 22, 2014.
91,070B | LPL Financial LLC, Business Technology Services | Boston, MA | October 22, 2014.
91,175 | Ambassador Steel Corporation, Harris Steel, Inc | Auburn, IN | November 15, 2014.
91,192 | Xerox Commercial Solutions, LLC, Customer Care—Industrial, Retail & Hospitality Division, Xerox, etc | Tigard, OR | December 2, 2014.
91,200 | Phoenix Products, Inc., Valterra Products, LLC, The Reserves Network, NESCO and Area Temps | Avon Lake, OH | December 8, 2014.
91,211 | D+H USA Corporation, DH Corporation, Alexander Connections, LLC and Volt | Portland, OR | December 10, 2014.
91,211A | D+H USA Corporation, DH Corporation, Volt | Bothell, WA | December 10, 2014.
91,235 | Chart Energy and Chemicals, Inc., Brazed Aluminum Heat Exchangers (BAHX), Chart Industries, Inc | La Crosse, WI | December 14, 2014.
91,242 | HCL America Inc., ERS (Engineering R&D Services) Division, HLC Technologies Ltd., etc | Naperville, IL | December 17, 2014.
91,258 | International Business Machines (IBM), Global Technology Services Delivery Division, Collabera, etc | Denver, CO | December 22, 2014.
91,259 | Seagate Technology LLC | Shrewsbury, MA | December 22, 2014.
91,280 | Cengage Learning, Inc., Global Product Technology (GPT) Division, Cengage Learning, etc | Mason, OH | January 4, 2015.
91,280A | Cengage Learning, Inc., Global Product Technology (GPT) Division, Cengage Learning, etc | Independence, KY | January 4, 2015.
91,280B | Cengage Learning, Inc., Global Product Technology (GPT) Division, Cengage Learning, etc | Boston, MA | January 4, 2015.
91,280C | Cengage Learning, Inc., Global Product Technology (GPT) Division, Cengage Learning, etc | San Francisco, CA | January 4, 2015.
91,280D | Cengage Learning, Inc., Global Product Technology (GPT) Division, Cengage Learning, etc | Farmington Hills, MI | January 4, 2015.
91,312 | Evraz Stratcor Inc | Hot Springs, AR | January 7, 2015.
91,317 | United Healthcare Services, Inc., Optum Technology Software Engineering Services Division, etc | Hartford, CT | January 8, 2015.
91,346 | Commercial Vehicle Group, Inc., Global Construction, Agriculture and Military (GCAM), Manpower | Edgewood, IA | January 14, 2015.
91,376 | Sypris Technologies, Tube Turns Division | Louisville, KY | January 21, 2015.
91,400 | Schawk, Schawk USA, Inc., and Schawk Holdings, Inc | Minneapolis, MN | January 27, 2015.
91,412 | Caterpillar Precision Seals, Wear Components & Aftermarket Distribution Division, etc | Toccoa, GA | January 29, 2015.
91,421 | Lenovo (United States) Inc., USFC MFG, CTG | Whitsett, NC | January 28, 2015.

The following certifications have been issued. The requirements of Section 222(b) (supplier to a firm whose workers are certified eligible to apply for TAA) of the Trade Act have been met.

TA-W No. | Subject firm | Location | Impact date
85,029 | Oldcastle BuildingEnvelope, Terra Staffing Group and Express Employment Professionals | Everett, WA | January 21, 2013.
90,203 | Fritz Enterprises Inc | Fairfield, AL | January 1, 2014.
90,255 | Lufkin Industries LLC, Power Transmission Division, Operating Business of GE Oil & Gas, etc | Lufkin, TX | January 1, 2014.
91,157 | Warren Steel Holdings, LLC, Accountemps and Alliance Solutions | Warren, OH | November 18, 2014.

Negative Determinations for Worker Adjustment Assistance

In the following cases, the investigation revealed that the eligibility criteria for worker adjustment assistance have not been met for the reasons specified.

The investigation revealed that the criterion under paragraph (a)(1) or (b)(1) (employment decline or threat of separation) of section 222 has not been met.

TA-W No. | Subject firm | Location | Impact date
85,012 | SANYO Solar (USA) LLC, SANYO North America Corporation | Carson, CA
85,672 | Twin Rivers Paper LLC, Accounts Payable Department | Madawaska, ME
85,923 | Oerlikon Fairfield, OC Oerlikon Corporation AG | Lafayette, IN
85,945 | International Business Machines (IBM), Global Procurement System Strategy, Manpower, Collabera, Inc | Hopewell Junction, NY
90,206 | Transcedar Limited, Inc., D/B/A Motorad of America, Fishman Thermal Technologies | Niagara Falls, NY
91,015 | Sysco Kansas City, Inc., Sysco Corporation | Olathe, KS
91,330 | Primary Sensors, Inc | Hibbing, MN
91,349 | International Business Machines (IBM) GTS-IOT, GTS Division, International Business Machines (IBM) | Las Vegas, NV

The investigation revealed that the criteria under paragraphs (a)(2)(A)(i) (decline in sales or production, or both) and (a)(2)(B) (shift in production or services to a foreign country) of section 222 have not been met.

TA-W No. | Subject firm | Location | Impact date
85,086A | Bayer CropScience LP (BCS LP), Thiodicarb Unit, Adecco, Belcan, CDI Engineering Solutions, etc | Institute, WV
90,297 | Westerman, Inc., Worthington Industries, Skiatook Oklahoma Division | Skiatook, OK

The investigation revealed that the criteria under paragraphs (a)(2)(A) (increased imports) and (a)(2)(B) (shift in production or services to a foreign country) of section 222 have not been met.

TA-W No. | Subject firm | Location | Impact date
85,101 | HelioVolt Corporation, Evins Personnel Consultants | Austin, TX
85,159 | Seagate Technologies PLC, Shakopee Design Center, Randstad North America, LP | Shakopee, MN
85,159A | Seagate Technologies PLC, Recording Head Group (RHG), Randstad North America, LP | Bloomington, MN
85,163 | Creative Apparel Associates LLC | Fort Kent, ME
85,241 | Institute Career Development | Merrillville, IN
85,280 | ClearEdge Power LLC, ClearEdge Power, Inc | South Windsor, CT
85,288 | Automated Solutions, Inc | Knoxville, AR
85,321 | JP Morgan Chase and Company, Mortgage Banking Division, Legacy Services Litigation Support | Florence, SC
85,333 | IQE North Carolina, IQE PLC, Wireless Division | Greensboro, NC
85,334 | Cubix Software Ltd., Inc | Longview, TX
85,342 | North Cascade Mechanical, LLC, Command Center, Inc | Blaine, WA
85,352 | Pioneer Hi-Bred, International—Mt. Pleasant, E.I. du Pont de Nemours and Company, Integrated Operations Division | Mount Pleasant, IA
85,388 | JPMorgan Chase & Co., Military Processing Department | Florence, SC
85,436 | PST, Inc. D/B/A Business Performance Services, McKesson Corporation | Cypress, CA
85,446 | JPMorgan Chase & Co., Central Support Group | Florence, SC
85,494 | Fluor—B&W Portsmouth LLC, Aecom, Alliant, APX, BGS, Brady, CDM, CSG, CRC, Davis Pickering, etc | Piketon, OH
85,508 | Electrodynamics, Inc., L-3 Communications | Rolling Meadows, IL
85,571 | VLOC, Inc., II-VI, Inc | Trinity, FL
85,630 | General Dynamics OTS (Pennsylvania), Inc., General Dynamics Ordnance and Tactical Systems, Inc | Scranton, PA
85,632 | Intuit, Inc., Customer Care Group, Icon | Mountain View, CA
85,633 | Microsoft Corporation, Design Laboratory, Formerly Employed by Nokia, Inc | Calabasas, CA
85,659 | IDEV Technologies, Inc., Abbott Vascular, Meador Staffing, Tapfin/Manpower | Webster, TX
85,676 | Syncreon US | Trotwood, OH
85,700 | Sport Mart Inc | Charleston, WV
85,765 | Vencore Services and Solutions, Inc. (VSS) | San Diego, CA
85,824 | HFW Ventures, LLC, D/B/A New Beginning Fitness Center | Kenai, AK
85,832 | BPRex Healthcare Brookville, Inc., RCT (Rigid Closed Top) Division, Berry Plastics | Brookville, PA
85,870 | Maidenform, Hanesbrands, Inc | Fayetteville, NC
85,887 | Unit Drilling Company, Unit Corporation | Oklahoma City, OK
85,895 | UNY LLC DBA General Super Plating, MJ Enterprises, Contemporary Personnel Services | East Syracuse, NY
85,898 | Siemens Energy Inc., PG DG PMF Division, Formerly Rolls-Royce, Belcan Engineering | Mount Vernon, OH
85,908 | PEMCO Mutual Insurance Company, Data Center and Technical Service Group | Seattle, WA
86,015 | Bandai America, Inc., Bandai Namco Holdings USA, Inc., Innovative Career Resources, etc | Cypress, CA
90,104 | C.P. Medical Corporation, Theragenics Corporation, Aerotek, Express Employment Professionals, etc | Portland, OR
90,143 | Haggen, Inc., Haggen Operations Holdings, LLC, Haggen Acquisition, LLC | Tualatin, OR
90,143A | Haggen, OPCO North, LLC, Haggen Operations Holdings, LLC | Klamath Falls, OR
90,143B | Haggen, OPCO North, LLC, Haggen Operations Holdings, LLC | Klamath Falls, OR
90,143C | Haggen, OPCO North, LLC, Haggen Operations Holdings, LLC | Grants Pass, OR
90,143D | Haggen, OPCO North, LLC, Haggen Operations Holdings, LLC | Keizer, OR
90,143E | Haggen, OPCO North, LLC, Haggen Operations Holdings, LLC | Clackamas, OR
90,143F | Haggen, OPCO North, LLC, Haggen Operations Holdings, LLC | West Lynn, OR
90,143G | Haggen, OPCO North, LLC, Haggen Operations Holdings, LLC | Eugene, OR
91,121 | REC Silicon LLC, Renewable Energy Corporation SAS, Rec Solar Grade Silicon LLC, etc | Moses Lake, WA
91,121A | REC Silicon ASA, Rec Solar Grade Silicon LLC, Rec Advanced Silicon Materials, etc | Silver Bow, MT
91,276 | Trimble Navigation, Ltd., North American Sales Team, Geospatial Division | Westminster, CO
91,322 | Gardner Denver Nash, LLC., R&D Engineering Department, The Marine Group, and Gardner Denver Inc | Trumbull, CT

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
90,236 | Gamma North | Alden, NY
91,342 | Hewlett Packard | East Pontiac, MI
91,379 | Climax Portable Machine Tools Inc | Newberg, OR
91,387 | Cameron International Corp. | Millbury, MA

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
91,405 | Fairmont Supply Oil & Gas | Warren, PA
91,425 | Universal Lighting Technologies | Los Indios, TX

The following determinations terminating investigations were issued because the petitioning groups of workers are covered by active certifications. Consequently, further investigation in these cases would serve no purpose since the petitioning group of workers cannot be covered by more than one certification at a time.

TA-W No. | Subject firm | Location | Impact date
85,090 | Pixel Playground, Inc. | Woodland Hills, CA
85,556 | Leased Workers from Optiscan, Inc., Honeywell International, Inc., Aerospace Order Management Division | Tempe, AZ
86,044 | Interfor Corporation NW Region—Tacomas, f/k/a Simpson Lumber Company, Almond and Associates and Optistaff, etc | Tacoma, WA
90,100 | Century Aluminum of West Virginia, Inc | Ravenswood, WV

The following determinations terminating investigations were issued because the petitions are the subject of ongoing investigations under petitions filed earlier covering the same petitioners.

TA-W No. | Subject firm | Location | Impact date
91,190 | D+H USA Corporation, DH Corporation, Volt | Bothell, WA
91,293 | RMI International | Ashland, KY
91,364 | Atlas Medical Software | Calabasas, CA
91,391 | Halliburton | Homer City, PA

I hereby certify that the aforementioned determinations were issued during the period of February 8, 2016 through February 26, 2016. These determinations are available on the Department's Web site www.tradeact/taa/taa_search_form.cfm under the searchable listing of determinations or by calling the Office of Trade Adjustment Assistance toll free at 888-365-6822.

Signed at Washington, DC, this 7th day of March, 2016.
Jessica R. Webster,
Certifying Officer, Office of Trade Adjustment Assistance.

[FR Doc. 2016-06620 Filed 3-23-16; 8:45 am]

BILLING CODE 4510-FN-P